NUCLEAR REGULATORY COMMISSION

[Docket No. 40-8027-MLA-5 ASLBP No. 03-807-01-MLA]

Sequoyah Fuels Corporation; Designation of Presiding Officer

Pursuant to delegation by the Commission, see 37 FR 28,710 (Dec. 29, 1972), and the Commission's regulations, see 10 CFR 2.1201, 2.1207, notice is hereby given that (1) a single member of the Atomic Safety and Licensing Board Panel is designated as Presiding Officer to rule on petitions for leave to intervene and/or requests for hearing; and (2) upon making the requisite findings in accordance with 10 CFR 2.1205(h), the Presiding Officer will conduct an adjudicatory hearing in the following proceeding:

Sequoyah Fuels Corporation, Gore, Oklahoma (Materials License Amendment).

The hearing will be conducted pursuant to 10 CFR part 2, Subpart L, of the Commission's Regulations, “Informal Hearing Procedures for Adjudications in Materials and Operator Licensing Proceedings.” This proceeding concerns requests for hearing submitted (1) on December 14, 2002, by Citizens Action for Safe Energy, Inc.; (2) on December 16, 2002, by the State of Oklahoma; (3) on December 16 by the Cherokee Nation; and (4) by fifteen other Oklahoma residents during December 2002. The requests were filed in response to a notice of consideration of an amendment request from Sequoyah Fuels Corporation to possess byproduct material, as defined in Atomic Energy Act section 11e.(2), at its Gore, Oklahoma facility site. The notice and opportunity for a hearing were published in the Federal Register on November 14, 2002 (67 FR 69,048).

The Presiding Officer in this proceeding is Administrative Judge Alan S. Rosenthal. Pursuant to the provisions of 10 CFR. 2.722, 2.1209, Administrative Judge Thomas D. Murphy has been appointed to assist the Presiding Officer in taking evidence and in preparing a suitable record for review.

All correspondence, documents, and other materials shall be filed with Judges Rosenthal and Murphy in accordance with 10 CFR 2.1203. Their addresses are:

Alan S. Rosenthal, Administrative Judge, Presiding Officer, Atomic Safety and Licensing Board Panel, U.S. Nuclear Regulatory Commission, Washington, DC 20555-0001.

Thomas D. Murphy, Administrative Judge, Special Assistant, Atomic Safety and Licensing Board Panel, U.S. Nuclear Regulatory Commission, Washington, DC 20555-0001.

Issued at Rockville, Maryland, this 31st day of December 2002.
G. Paul Bollwerk, III,
Chief Administrative Judge, Atomic Safety and Licensing Board Panel.

[FR Doc. 03-263 Filed 1-6-03; 8:45 am]

BILLING CODE 7590-01-P